SMALL BUSINESS ADMINISTRATION

Privacy Act of 1974; Matching Program

AGENCY: Office of Capital Access, U.S. Small Business Administration.

ACTION: Notice of a new matching program waiver.

SUMMARY: Pursuant to section 552da€(12) of the Privacy Act of 1974, as amended, and the Office of Management and Budget (OMB) Guidelines on the Conduct of Matching Programs, and the Payment Integrity Information Act of 2019 (PIIA), notice is hereby given of the conduct of the Computer Matching Program pertaining to the Do Not Pay (DNP) Working System's support of the Small Business Administration's (SBA) programs are the Disaster Home Loan program, Business and Economic Injury Disaster Loan (EIDL) programs, 7(a) Loan programs, and 504 loan programs. This matching program will provide SBA with information that will help it identify potentially improper payments in these SBA Loan Programs.

DATES: Submit comments on or before November 9, 2023. This new matching agreement will be effective upon publication and expires 36 months from the date of publication.

ADDRESSES: Inquiries and comments on this proposed matching program can be addressed to U.S. Small Business Administration, Attn: Sheri McConville, (Acting) Director, Office of Performance and Systems Management, Office of Capital Access, 409 3rd St. SW, Washington, DC 20416, or by email: Sheri.McConville@sba.gov and Bureau of the Fiscal Service, Information and Security Services, Attn: David J. Ambrose, Chief Security Officer/Chief Privacy Officer, Bureau of the Fiscal Service, 3201 Pennsy Drive, Warehouse “E”, Landover, MD 20785, or by email: David.Ambrose@fiscal.treasury.gov.

FOR FURTHER INFORMATION CONTACT:

Kelvin L. Moore, Chief Information Security Officer, Office of the Chief Information Officer, Telephone (202-921-6273), Kelvin.Moore@sba.gov. Informational Privacy related inquiries: LaWanda Burnette, Chief Privacy Officer, Telephone (202-853-0851), LaWanda.Burnette@sba.gov.

David J. Ambrose, Chief Security Officer/Chief Privacy Officer, Bureau of the Fiscal Service, Telephone (202-874-6488), David.Ambrose@fiscal.treasury.gov.

SUPPLEMENTARY INFORMATION: The Computer Matching and Privacy Protection Act of 1988 (Pub. L. 101-503), amended the Privacy Act (5 U.S.C. 552a) by describing the way computer matching involving Federal agencies could be performed and adding certain protections for individuals applying for and receiving Federal benefits. Section 7201 of the Omnibus Budget Reconciliation Act of 1990 (Pub. L. 101-508) further amended the Privacy Act regarding protections for such individuals. Moreover, PIIA, (31 U.S.C. 3351 et seq.), provides the head of the agency operating the Do Not Pay Working System with the authority to waive the requirements in 5 U.S.C. 552a(o), after consultation with OMB, for matching programs conducted under the DNP Initiative (31 U.S.C. 3354). This Notice provides the public with information regarding a matching program pertaining to the DNP Working System's support of SBA Programs that have been granted a waiver, pursuant to PIIA, from the Matching Agreement requirements in the Privacy Act. SBA estimates this Agreement will save SBA and taxpayers millions of dollars per year.

Participating Agencies

U.S. Small Business Administration as the recipient agency, will match against the Bureau of the Fiscal Service, U.S. Department of the Treasury.

Authority for Conducting the Matching Program

In accordance with 31 U.S.C. 3354, executive agencies are required to “review prepayment and pre-award procedures and ensure that a thorough review of available databases with relevant information on eligibility occurs to determine program or award eligibility and prevent improper payments before the release of any Federal funds.” 31 U.S.C. 3354(a)(1).

The Debt Collection Improvement Act of 1996, 31 U.S.C. 3325(d) and 7701(c)(1).

Purpose(s)

The purpose of this program is to assist SBA in the identification of potentially improper payments by allowing SBA access to four restricted databases in DNP's Working System to screen SBA guaranteed and direct loan applications for eligibility, and to conduct analyses to prevent fraud and improper payments.

Categories of Individuals

Individuals/entities applying for or receiving the Disaster Home Loan program; Business and Economic Injury Disaster Loan (EIDL) programs; 7(a) Loan programs; and 504 loan programs.

Categories of Records

SBA is also functioning as the source agency and will furnish information to the DNP Working System regarding SBA Program applicants or benefit recipients. The requests from the SBA may include: The loan applicant's name (which may include their individual name and/or business/trading names, if applicable), Taxpayer Identification Number (TIN), type of TIN, Unique Entity Identifier (UEI), address, date of birth, sex, telephone number(s), email address(es), payment information, associated banking information, and associated payment/transaction information. The Bureau of the Fiscal Service will provide a response record for each individual/entity identified by the source agency. When there is a match between a record provided by the SBA and one or more of the databases contained in the DNP Working System, the DNP Working System will disclose to the source agency the presence of a potentially matching record in the DNP Working System and the database(s) that contain the potentially matching record(s).

System(s) of Records

SBA 20 Disaster Loans Case File, 86 FR 64979 (Nov 19, 2021); SBA 21 Loan Systems, 86 FR 23026 (April 30, 2021); and Treasury/Fiscal Service .017—Do Not Pay Payment Verification Records, 85 FR 11776 (Feb. 27, 2020).

John A. Miller,
Deputy Associate Administrator for Office of Capital Access, U.S. Small Business Administration.

[FR Doc. 2023-22389 Filed 10-6-23; 8:45 am]

BILLING CODE 8026-09-P